DEPARTMENT OF LABOR

Employment and Training Administration

[TA-W-39,659 and NAFTA-05058]

Tower Automotive, Sebewaing, MI; Notice of Negative Determination Regarding Application for Reconsideration

By application of March 6, 2002, the Paper, Allied-Industrial, Chemical and Energy Workers International Union, AFL-CIO-CLC, Local 6-0111 requested administrative reconsideration of the Department's negative determination regarding eligibility for workers and former workers of the subject firm to apply for Trade Adjustment Assistance (TAA) under petition TA-W-39,659 and North American Free Trade Agreement-Transitional Adjustment Assistance (NAFTA-TAA) under petition NAFTA-5058. The TAA and NAFTA-TAA denial notices applicable to workers of Tower Automotive, Sebewaing, Michigan, were signed on February 13, 2002 and published in the Federal Register on February 28, 2002 (67 FR 9326 & 9327, respectively).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Tower Automotive, Sebewaing, Michigan engaged in employment related to the production of metal stamping for the automobile industry, was denied because the “contributed importantly” group eligibility requirement of section 222(3) of the Trade Act of 1974, as amended, was not met. The “contributed importantly” test is generally demonstrated through a survey of the workers' firm's customers. The survey revealed that none of the respondents imported products like or directly competitive with what the subject plant produced during the relevant period.

The NAFTA-TAA petition for the same worker group was denied because criteria (3) and (4) of the group eligibility requirements in paragraph (a)(1) of section 250 of the Trade Act, as amended, were not met. The survey revealed that none of the respondents increased their imports of products like or directly competitive with what the subject plant produced from Canada or Mexico during the relevant period. The subject firm did not import from Canada or Mexico products like or directly competitive with what the subject plant produced, nor was the subject plant's production shifted from the workers' firm to Mexico or Canada.

The petitioner alleges that the Dodge pickup inner box panel jobs that left the plant in mid 2001 went to the Chrysler plant in Saltillo, Mexico.

Review of the initial investigation and data supplied by the respondents during the corresponding survey indicate that the customer of the Dodge pickup inner box panel ceased purchasing the product from the subject firm during July 2001, in favor of purchasing the product from other domestic sources.

Further review of the findings in the initial decision, indicate that the company did not shift production of Dodge pickup inner box panels to Mexico or Canada, nor did they import the panels from Mexico or Canada during the relevant period.

Conclusion

After review of the application and investigative findings, I conclude that there has been no error or misinterpretation of the law or of the facts which would justify reconsideration of the Department of Labor's prior decisions. Accordingly, the application is denied.

Signed at Washington, DC, this 9th day of May, 2002.
Edward A. Tomchick,
Director, Division of Trade Adjustment Assistance.

[FR Doc. 02-13539 Filed 5-29-02; 8:45 am]

BILLING CODE 4510-30-P